DEPARTMENT OF COMMERCE

Foreign-Trade Zones Board

[B-59-2022]

Foreign-Trade Zone (FTZ) 41—Milwaukee, Wisconsin; Notification of Proposed Production Activity; CNH Industrial America LLC (Tractor Component Parts and Axle Subassemblies), Sturtevant, Wisconsin

CNH Industrial America LLC submitted a notification of proposed production activity to the FTZ Board (the Board) for its facility in Sturtevant, Wisconsin, within FTZ 41. The notification conforming to the requirements of the Board's regulations (15 CFR 400.22) was received on December 7, 2022.

Pursuant to 15 CFR 400.14(b), FTZ production activity would be limited to the specific foreign-status material(s)/component(s) described in the submitted notification (summarized below) and subsequently authorized by the Board. The benefits that may stem from conducting production activity under FTZ procedures are explained in the background section of the Board's website—accessible via www.trade.gov/ftz. The proposed material(s)/component(s) would be added to the production authority that the Board previously approved for the operation, as reflected on the Board's website.

The proposed foreign-status materials and components include: transmission fluid; thread lockers; diesel exhaust fluid; vinyl chloride self-adhesive decals; steel components (tube nuts; locking tabs; cylindrical spacers); lanyards with steel clasps; Allen wrenches; hammers; door locks; iron, steel, aluminum, or zinc components (air and gas springs; brackets and bracket assemblies for motor vehicles; mounts and mounting plates; supports; latches, clamps, and handles); belt tensioners; oil drains; windshield washer components (spray nozzles; fluid tanks; motors); various assemblies (oil pan; tractor and sprayer cab video display; hitch; hydraulic arm; tractor hood securing); solenoid valves; tapered roller bearing cones; solenoids; antenna brackets; iron or steel components (hood support brackets; axle mounting plates; step risers; mounts and mount assemblies; valve spacer plates; supports); rubber straps; steel straps; iron counterweights; and, brake pedals (duty rate ranges from duty-free to 9.0% and 84¢/bbl). The request indicates that certain materials/components are subject to duties under section 232 of the Trade Expansion Act of 1962 (section 232) or Section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is January 23, 2023.

A copy of the notification will be available for public inspection in the “Online FTZ Information System” section of the Board's website.

For further information, contact Juanita Chen at juanita.chen@trade.gov.

Dated: December 8, 2022.
Andrew McGilvray,
Executive Secretary.

[FR Doc. 2022-27070 Filed 12-13-22; 8:45 am]

BILLING CODE 3510-DS-P